NATIONAL SCIENCE FOUNDATION

Notice of Permit Modification Received Under the Antarctic Conservation Act of 1978 (Pub. L. 95-541)

AGENCY: National Science Foundation.

ACTION: Notice of Permit Modification Request Received under the Antarctic Conservation Act of 1978, Pub. L. 95-541.

SUMMARY: The National Science Foundation (NSF) is required to publish a notice of requests to modify permits issued to conduct activities regulated under the Antarctic Conservation Act of 1978. NSF has published regulations under the Antarctic Conservation Act at Title 45 part 670 of the Code of Federal Regulations. This is the required notice of a requested permit modification.

DATES: Interested parties are invited to submit written data, comments, or views with respect to this permit application by September 12, 2011. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Description of Permit Modification Requested: The Foundation issued a permit (2011-002) to David Ainley on May 28, 2010. The issued permit allows the applicant to enter Beaufort Island ASPA 105, Cape Royds ASPA 121, and Cape Crozier ASPA 124 to band 1800 Adelie fledglings, implant PIT tags on 300 Adelie adults, apply TDR/satellite tags, weigh and blood sample 45 Adelie adults, and mark nests as part of a study to determine the effect of age, experience and physiology on individual foraging efficiency, breeding success and survival, and develop a comprehensive model for the Ross-Beaufort island metapopulations incorporating all the factors investigated.

The applicant requests a modification to his permit to allow:

(1) Inject PIT tags under the skin of ≤120 Adelie chicks at Cape Crozier (ASPA 124) and ≤100 chicks at Cape Royds (ASPA 121) which they will attempt to detect with a ground-based antennae to read the tags of the birds when they return to the colony in the future, thus eliminating the need for metal flipper bands to monitor penguin demography.

(2) Would like to increase the 45 adult birds to 55 with TDR/satellite tags. The addition of 10 birds allows for potential instrument failure and the need to maintain an overall sample size of 45+ birds with working TDRs each season.

(3) Given the cold temperatures at in Antarctica, especially Cape Crozier, it is very difficult to collect blood from the leg or flipper of a penguin in the short time period needed for measuring corticosterone levels. They would like to switch to drawing blood from the jugular vein. Dr. Lisa Balance has extensive experience with penguin physiology and jugular blood draw techniques and will deploy with the team to refresh their training in this blood draw technique.

(4) Follow chicks from the 55 adults equipped with TDR instruments through the creching stage, which has never been studied. They will need to individually mark chicks using “T-bar anchor tags” (or Fish tags) during the first weighing. By studying the chicks at this stage to adult would help to determine a more accurate measure of reproductive success. The tag will be removed, however if the chick is not found, the tag will eventually wear off.

(5) Finally, they plan to extract ~3 feathers from the backs of adults with TDRs and PIT tags in order to determine sex using genetic analysis, as well as to relate melanin levels to bird condition..

Location: ASPA 121—Cape Royds, and ASPA 124—Cape Crozier, Ross Island, and ASPA 105—Beaufort Island, Ross Sea.

Dates: September 1, 2011 to August 31, 2015.

Nadene G. Kennedy,
Permit Officer, Office of Polar Programs.

[FR Doc. 2011-20477 Filed 8-11-11; 8:45 am]

BILLING CODE 7555-01-P